DEPARTMENT OF DEFENSE

Department of the Army; Corps of Engineers

Availability of the Record of Decision on Arthur Kill Channel—Howland Hook Marine Terminal, New York and New Jersey

AGENCY: U.S. Army Corps of Engineers, DoD.

ACTION: Notice of availability.

SUMMARY: The Record of Decision (ROD) on the Arthur Kill Channel—Howland Hook Marine Terminal, New York and New Jersey, was signed by Robert H. Griffin, Brigadier General, U.S. Army, Director of Civil Works and transmitted to the New York District of the U.S. Army Corps of Engineers by memo dated 4 September, 2001. The ROD closes the administrative record for the Final Supplemental Environmental Impact Statement on the above referenced project.

DATES: There is no closing date for the availability of the ROD.

ADDRESSES: The ROD may be obtained from the Army Corps of Engineers Planning Division, 26 Federal Plaza, New York, NY 10278-0090.

FOR FURTHER INFORMATION CONTACT: Ms. Therese Fretwell, Environmental Technical Coordinator, CENAN-PL-EA, Corps of Engineers, New York District, 26 Plaza, NY, NY 10278-0090, Tel. 212-264-5736.

Luz D. Ortiz,
Army Federal Register Liaison Officer.

[FR Doc. 02-1148 Filed 1-15-02; 8:45 am]

BILLING CODE 3710-06-M